FEDERAL MARITIME COMMISSION

[Docket No. 22-18]

Color Brands, LLC, Complainant. v. AAF Logistics, Inc., Respondent; Notice of Filing of Complaint and Assignment

Notice is given that a complaint has been filed with the Federal Maritime Commission (Commission) by Color Brands, LLC, hereinafter “Complainant,” against AAF Logistics, Inc., hereinafter “Respondent.” Complainant states that it is a corporation under the laws of the State of Michigan, with its principal place of business in Chicago, Illinois. Complainant states that Respondent is a non-vessel-operating common carrier incorporated under the laws of the State of California.

Complainant alleges that Respondent violated 46 U.S.C. 41102 (a)(c), 46 U.S.C. 41104(a)(4)(e) and 46 U.S.C. 41104(a)(14) on the matter of insurance premiums and the adjustment and settlement of insurance claims on its cargo shipments. The full text of the complaint can be found in the Commission's Electronic Reading Room at https://www2.fmc.gov/readingroom/proceeding/22-18/. This proceeding has been assigned to Office of Administrative Law Judges. The initial decision of the presiding office in this proceeding shall be issued by August 30, 2023, and the final decision of the Commission shall be issued by March 15, 2024.

Served: August 30, 2022.
William Cody,
Secretary.

[FR Doc. 2022-19079 Filed 9-1-22; 8:45 am]

BILLING CODE 6730-02-P